SOCIAL SECURITY ADMINISTRATION

Notice Announcing Implementation of Sections 302 and 303 of the Social Security Protection Act of 2004

AGENCY: Social Security Administration (SSA).

ACTION: Notice.

SUMMARY: The purpose of this notice is to announce that the Social Security Administration (SSA) has implemented sections 302 and 303 of the Social Security Protection Act of 2004 (SSPA). Section 302 of the SSPA extends the current attorney fee withholding and payment process under title II of the Social Security Act (the Act) to claims for benefits under title XVI of the Act. Section 303 of the SSPA requires the Commissioner of Social Security (the Commissioner) to develop and implement a five-year nationwide demonstration project that extends to certain non-attorney representatives of claimants under titles II and XVI of the Act the option to have approved representatives' fees withheld and paid directly from a beneficiary's past-due benefits.

FOR FURTHER INFORMATION CONTACT: Michael Zambonato, Social Security Administration, Office of Income Security Programs, 2709 Rolling Road, Baltimore, MD 21244, (410) 965-5419.

SUPPLEMENTARY INFORMATION: Pursuant to section 303(d) of the SSPA, the Commissioner notified Congress on February 28, 2005, of our completion of the actions necessary to fully implement the requirements for full operation of the demonstration project on fee withholding for non-attorneys. Accordingly, the five-year period of the demonstration project under section 303 began on February 28, 2005. As provided in section 302(c) of the SSPA, the extension of the current representative fee withholding and payment process under title II of the Act to claims for benefits under title XVI of the Act also became effective for favorably decided cases effectuated on or after February 28, 2005.

Additional information on the implementation of section 302 can be found in operating instructions that we have issued on fee withholding and direct payment of fees under title XVI in the Program Operations Manual System (POMS), Subchapters GN 03920, GN 03930, and GN 03940. These instructions may be accessed from our Web site at http://www.socialsecurity.gov, using the link to Our Program Rules. You can also access these instructions directly at http://policy.ssa.gov/poms.nsf/subchapterlist!openview&restricttocategory=02039.

In accordance with the provisions of section 303, we will determine the eligibility of applicants to participate in the demonstration project on fee withholding for non-attorneys through a process by which we will determine if applicants satisfy the prerequisites to participate in that project. We provided information on the prerequisites process in a Federal Register notice published on January 13, 2005 (70 FR 2447). Additional information on the demonstration project and the prerequisites process is available on our Representing Claimants Web site at http://www.ba.ssa.gov/representation/.

As we explained in our Federal Register notice of January 13, 2005, we are using a private contractor to assist us in administering the process for determining eligibility to participate in the demonstration project. The contractor is CPS Human Resource Services (CPS). CPS has established an informational Web site at http://www.cps.ca.gov/tlc/ssa/about.asp that provides general information on eligibility requirements, the application process, and deadlines. CPS has also established a site for taking applications at http://www.cps.ca.gov/tlc/ssa/signin.asp. CPS can be reached by:

• Mail, sent to: CPS Human Resource Services, SSA Non-Attorney Representative Demonstration Project, 241 Lathrop Way, Suite A, Sacramento, CA 95815-4242.

• E-mail, sent to SSA@cps.ca.gov.

• Telephone, toll free at 1-800-376-5728. The local number in Sacramento is 916-263-3600.

(Catalog of Federal Domestic Assistance Program Nos. 96.001, Social Security-Disability Insurance; 96.002, Social Security-Retirement Insurance; 96.004, Social Security-Survivors Insurance; and 96.006, Supplemental Security Income)
Fritz Streckewald,
Assistant Deputy Commissioner for Program Policy, for Disability and Income Security Programs.

[FR Doc. 05-5581 Filed 3-21-05; 8:45 am]

BILLING CODE 4191-02-P